DEPARTMENT OF ENERGY

Federal Energy Regulatory Commission

Combined Notice of Filings #2

Take notice that the Commission received the following electric corporate filings:

Docket Numbers: EC21-59-000.

Applicants: Trent River Solar, LLC, PGR Lessee P, LLC.

Description: Application for Authorization Under Section 203 of the Federal Power Act of Trent River Solar, LLC, et al.

Filed Date: 3/2/21.

Accession Number: 20210302-5078.

Comments Due: 5 p.m. ET 3/23/21.

Docket Numbers: EC21-60-000.

Applicants: Flat Water Wind Farm, LLC, TPW Petersburg, LLC, Roth Rock Wind Farm, LLC, Roth Rock North Wind Farm, LLC, Persimmon Creek Wind Farm 1, LLC.

Description: Application for Authorization Under Section 203 of the Federal Power Act of Flat Water Wind Farm, LLC, et al.

Filed Date: 3/2/21.

Accession Number: 20210302-5102.

Comments Due: 5 p.m. ET 3/23/21.

Take notice that the Commission received the following electric rate filings:

Docket Numbers: ER10-2960-012; ER19-2231-004; ER19-2232-004; ER10-1595-015; ER18-2418-004; ER10-1598-015; ER10-1616-015; ER10-1618-015; ER18-1821-007.

Applicants: Astoria Generating Company, L.P., Chief Conemaugh Power, LLC, Chief Conemaugh Power II, LLC, Chief Keystone Power, LLC, Chief Keystone Power II, LLC, Crete Energy Venture, LLC, Great River Hydro, LLC, Lincoln Generating Facility, LLC, New Covert Generating Company, LLC, Walleye Power, LLC, Rolling Hills Generating, L.L.C.

Description: Response to January 29, 2021 Deficiency Letter of Astoria Generating Company, L.P. et al.

Filed Date: 3/1/21.

Accession Number: 20210301-5426.

Comments Due: 5 p.m. ET 3/22/21.

Docket Numbers: ER15-356-014; ER15-357-014.

Applicants: Chief Conemaugh Power, LLC, Chief Keystone Power, LLC.

Description: Response to January 29, 2021 Deficiency Letter of Astoria Generating Company, L.P. et al.

Filed Date: 3/1/21.

Accession Number: 20210301-5425.

Comments Due: 5 p.m. ET 3/22/21.

Docket Numbers: ER19-2462-004; ER18-2264-007; ER10-2630-003; ER16-1914-003.

Applicants: Macquarie Energy LLC, Macquarie Energy Trading LLC, NGP Blue Mountain I LLC, Patua Acquisition Company, LLC.

Description: Notice of Non-Material Change in Status of Macquarie Energy LLC, et al.

Filed Date: 3/1/21.

Accession Number: 20210301-5427.

Comments Due: 5 p.m. ET 3/22/21.

Docket Numbers: ER20-2444-001.

Applicants: Millican Solar Energy LLC.

Description: Notice of Change in Status of Millican Solar Energy LLC.

Filed Date: 3/2/21.

Accession Number: 20210302-5075.

Comments Due: 5 p.m. ET 3/23/21.

Docket Numbers: ER21-445-000.

Applicants: Hill Top Energy Center LLC.

Description: Response to February 23, 2021 Deficiency Letter of Hill Top Energy Center LLC.

Filed Date: 2/26/21.

Accession Number: 20210226-5098.

Comments Due: 5 p.m. ET 3/8/21.

Docket Numbers: ER21-1247-000.

Applicants: Southwest Power Pool, Inc.

Description: § 205(d) Rate Filing: 2198R29 Kansas Power Pool NITSA NOA to be effective 2/1/2021.

Filed Date: 3/2/21.

Accession Number: 20210302-5052.

Comments Due: 5 p.m. ET 3/23/21.

Docket Numbers: ER21-1249-000.

Applicants: Vineyard Reliability LLC.

Description: Baseline eTariff Filing: Vineyard_Rel_MBRA_App to be effective 3/5/2021.

Filed Date: 3/2/21.

Accession Number: 20210302-5090.

Comments Due: 5 p.m. ET 3/23/21.

Docket Numbers: ER21-1250-000.

Applicants: Tumbleweed Solar, LLC.

Description: Baseline eTariff Filing: Certificates of Concurrence and Request for Waivers and Blanket Approvals to be effective 3/3/2021.

Filed Date: 3/2/21.

Accession Number: 20210302-5105.

Comments Due: 5 p.m. ET 3/23/21.

Docket Numbers: ER21-1251-000.

Applicants: Bighorn Solar 1, LLC.

Description: Baseline eTariff Filing: MBR Application with Request for Waivers & Expediting to be effective 4/1/2021.

Filed Date: 3/2/21.

Accession Number: 20210302-5130.

Comments Due: 5 p.m. ET 3/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2021.
Nathaniel J. Davis, Sr.,
Deputy Secretary.

[FR Doc. 2021-04752 Filed 3-5-21; 8:45 am]

BILLING CODE 6717-01-P